DEPARTMENT OF THE INTERIOR

National Park Service

[NPS-SERO-MISP-NPS0030380; PPSESEROC3.PPMPSAS1Y.YP0000]

Mill Springs Battlefield National Monument

AGENCY: National Park Service, Interior.

ACTION: Notice.

SUMMARY: As authorized by the John D. Dingell, Jr. Conservation, Management, and Recreation Act, the National Park Service announces that the Secretary of the Interior (Secretary) has established, in the Commonwealth of Kentucky, Mill Springs Battlefield National Monument as a unit of the National Park System.

FOR FURTHER INFORMATION CONTACT: Karen Cucurullo, Deputy Regional Director, National Park Service, South Atlantic Gulf Regional Office at (404) 507-5611.

SUPPLEMENTARY INFORMATION: Section 2302 of the John D. Dingell, Jr. Conservation, Management, and Recreation Act, Public Law 116-9, includes a specific provision relating to establishment of this unit of the National Park System. To establish the national monument, the Secretary must determine that a sufficient quantity of land, or interests in land, has been acquired to constitute a manageable park unit and must publish notice of the establishment of the national monument in the Federal Register.

Fought on January 19, 1862, the Battle of Mill Springs is considered one of the earliest major victories for the Union Army on the field of battle during the Civil War. The National Park Service acquired by general warranty deed the fee simple interests in the approximately one-acre Zollicoffer Park on March 6, 2020. Zollicoffer Park is located within the center of the core battlefield area and includes the area of direct engagement between Union and Confederate forces during the Battle of Mill Springs. The National Park Service acquired by general warranty deed the fee simple interests in an approximately 17-acre parcel that includes the Mill Springs Visitor Center/Museum and adjacent parking area on March 24, 2020. The Visitor Center/Museum is currently open to the public and includes artifacts found on the battlefield, interpretive displays, a library, administrative offices, gift shop, and theater room. It is also at this location that visitors begin their visit to Mill Springs Battlefield by following a self-guided automobile tour throughout the battlefield landscape.

On September 22, 2020, the Secretary of the Interior signed a Decision Memorandum determining that a sufficient quantity of land, or interests in land, had been acquired to constitute a manageable park unit. With the signing of this Decision Memorandum by the Secretary, the site to be known as the “Mill Springs Battlefield National Monument” was established as a unit of the National Park System, effective September 22, 2020, and is subject to all laws, regulations, and policies pertaining to such units.

Margaret Everson,
Counselor to the Secretary, Exercising the Delegated Authority of the Director, National Park Service.

[FR Doc. 2020-25343 Filed 11-16-20; 8:45 am]

BILLING CODE 4312-52-P